DEPARTMENT OF THE INTERIOR

National Park Service

AGENCY: National Park Service, Interior.

ACTION: Notice of implementation of the Glacier Bay National Park and Preserve Commercial Fisheries Compensation Plan.

SUMMARY: In accordance with Section 123 of the Omnibus Consolidated and Emergency Appropriations Act of FY 1999, as amended, the National Park Service is implementing the Glacier Bay National Park Commercial Fisheries Compensation Plan.

Applications for compensation under this plan are being accepted for a 120-day period beginning on September 28, 2001 and ending on January 28, 2002. Application instruction packets are available at: Glacier Bay National Park and Preserve, Juneau Field Office, 2770 Sherwood Lane, Suite I, Juneau, AK 99801-8545, Phone 907-586-7027, FAX 907-586-7097.

This Compensation Plan will involve information collection from ten or more parties. A federal agency may not conduct or sponsor, and a person is not required to respond to, a collection of information unless it displays a currently valid OMB control number. Therefore, under the provisions of the Paperwork Reduction Act of 1995 and 5 CFR Part 1320, Reporting and RecordKeeping Requirements, The National Park Service requested an emergency approval of the information collection requirements of this Compensation Plan. The Office of Management and Budget has approved the request under OMB control number 1024-0240, with an expiration date of February 28, 2002.

Information will be collected from respondents by mail using the process described in the Glacier Bay Commercial Fishing Compensation Plan Part V and will be sent to the Glacier Bay Office of Commercial Fishing Compensation to be used by the park superintendent to establish eligibility to obtain compensation for the inability to fish in the waters of Glacier Bay National Park. NPS anticipates that there will be a total of approximately six hundred respondents per year with an estimated total annual reporting and record-keeping burden of 2400 hours. A response to the information collection portion of this plan is required to obtain compensation in accordance with Section 123 of the Omnibus Consolidated and Emergency Supplemental Appropriations Act (P.L. 105-277).

FOR FURTHER INFORMATION: Contact Ronald Dick at 907-586-7047.

Dated: August 22, 2001.
Bill Pierce,
Alaska Desk Officer.

[FR Doc. 01-24394 Filed 9-27-01; 8:45 am]

BILLING CODE 4310-70-P